DEPARTMENT OF DEFENSE

Office of the Secretary

32 CFR Part 65

[Docket ID: DOD-2017-OS-0046]

RIN 0790-AJ94

Post-9/11 GI Bill

AGENCY: Under Secretary of Defense for Personnel and Readiness, DoD.

ACTION: Final rule.

SUMMARY: This final rule removes the Department of Defense (DoD) regulation concerning the Post-9/11 GI Bill. In 2009, when first published, this part included significant information explaining the entire program, including the responsibilities of both DoD and the Department of Veterans Affairs (VA). When the part was revised at 78 FR 34251 on June 7, 2013, however, it only addressed DoD responsibilities, as VA responsibilities are now addressed in that agency's regulations. All burdens and responsibilities pertaining to persons who are not members of the Uniformed Services are addressed in VA regulations, and repeal of this regulation will have no effect on VA regulations. Repealing this rule supports website best practices because the public user is linked to the original and appropriate source, VA. This rule is internal to DoD and should be removed.

DATES: This rule is effective on June 11, 2018.

FOR FURTHER INFORMATION CONTACT: Patricia Leopard at 571-256-0590.

SUPPLEMENTARY INFORMATION: It has been determined that publication of this CFR part removal for public comment is impracticable, unnecessary, and contrary to public interest since it is based on removing DoD internal policies and procedures that are publically available on the Department's issuance website.

DoD internal guidance concerning the Post-9/11 GI Bill will continue to be published in DoD Instruction 1341.13, “Post-9/11 GI Bill” available at http://www.esd.whs.mil/Portals/54/Documents/DD/issuances/dodi/134113p.pdf.

This rule is not significant under Executive Order (E.O.) 12866, “Regulatory Planning and Review,” therefore, E.O. 13771, “Reducing Regulation and Controlling Regulatory Costs” does not apply.

List of Subjects in 32 CFR Part 65

Armed forces, Education.

PART 65—[REMOVED]

Accordingly, by the authority of 5 U.S.C. 301, 32 CFR part 65 is removed.

Dated: June 6, 2018.
Aaron T. Siegel,
Alternate OSD Federal Register Liaison Officer, Department of Defense.

[FR Doc. 2018-12457 Filed 6-8-18; 8:45 am]

BILLING CODE 5001-06-P